DEPARTMENT OF TRANSPORTATION

Federal Motor Carrier Safety Administration

Notice of Fiscal Year 2008 Safety Data Improvement Program (SaDIP) Grant Application Instructions and Materials

AGENCY: Federal Motor Carrier Safety Administration (FMCSA), DOT.

ACTION: Notice.

SUMMARY: This notice is intended to announce the posting of the Fiscal Year 2008 Safety Data Improvement Program (SaDIP) Grant Opportunity to Grants.gov (http://www.grants.gov). A tentative schedule for the Fiscal Year 2008 SaDIP grant application and award process is included with the synopsis and application instructions. Grant awards are contingent on passage of the FY 2008 U.S. Department of Transportation appropriations bill, which includes FMCSA appropriations, by Congress and approved by the U.S. President.

DATES: November 9, 2007.

Submit comments or questions by: November 30, 2007.

Responses will be available on Grants.gov by: December 14, 2007

Application deadline: January 30, 2008

Grant Awards: End of 2nd Quarter / Start of 3rd Quarter FY 2008

FOR FURTHER INFORMATION CONTACT: Address all comments concerning This notice to Betsy Benkowski, Department of Transportation, Federal Motor Carrier Safety Administration, 1200 New Jersey Avenue, SE., Washington, DC 20590, 202-366-5387 (telephone), Betsy.Benkowski@dot.gov (Internet address).

SUPPLEMENTARY INFORMATION: Section 4128 of the Safe, Accountable, Flexible, Efficient Transportation Equity Act: A Legacy for Users (SAFETEA-LU) established the SaDIP grant opportunity. The legislation provides discretionary funding for the States to improve the quality of crash and inspection data for large trucks and buses reported by the States to FMCSA, as established in Section 31102 of Title 49, United States Code. Eligible awardees include a State Agency, the District of Columbia, Puerto Rico, Northern Mariana Islands, American Samoa, Guan, and the U.S. Virgin Islands. Applicants must registrar with Grants.gov to apply for funding (http://www.grants.gov/applicants/get_registered.jsp). Registration with grants.gov may take two to five days before the system will allow access to the grant application package. Applications should be submitted in accordance with the instructions provided and must be submitted in accordance with the instructions provided and must be submitted electronically to FMCSA through the Grants.gov Web site. The Catalog of Federal Domestic Assistance (CFDA) number for the Safety Data Improvement Program is 20.234. Potential applicants will be required to install Pure Edge Viewer in order to se the form interface under the “Download the Application Package” hyperlink.

Potential applicants are strongly encouraged to register their e-mail address with the system to receive notice of modifications made to the synopsis or application instructions.

Issued on: November 6, 2007.
Terry Shelton,
Associate Administrator for Research and Information Technology.

[FR Doc. E7-22055 Filed 11-8-07; 8:45 am]

BILLING CODE 4910-MC-P